DEPARTMENT OF THE INTERIOR

Bureau of Land Management

DEPARTMENT OF ENERGY

Western Area Power Administration

[LLWY920000.L51010000.ER0000-LVRWK09K1160; WYW177893; COC72929; UTU87238; N86732]

Notice of Availability of the Final Environmental Impact Statement for the TransWest Express 600-kV Direct Current Transmission Project in Wyoming, Colorado, Utah, and Nevada, and Proposed Land Use Plan Amendments

AGENCY: Bureau of Land Management, Interior; and Western Area Power Administration, DOE.

ACTION: Notice of availability.

SUMMARY: In accordance with the National Environmental Policy Act of 1969, as amended (NEPA), and the Federal Land Policy and Management Act of 1976, as amended (FLPMA), the Bureau of Land Management (BLM), Bureau of Reclamation (BOR), Utah Reclamation Mitigation Conservation Commission (URMCC), Western Area Power Administration (Western) and the United States Forest Service (Forest Service) announce the availability of the TransWest Express Transmission Project Final Environmental Impact Statement (EIS) and proposed land use plan amendments. The Final EIS analyzes the potential environmental consequences of granting a right-of-way (ROW) to TransWest Express, LLC (TransWest) to construct and operate an extra-high voltage (EHV) direct current (DC) transmission system (proposed Project).

DATES: BLM planning regulations (43 CFR 1610.5-2) state that any person who meets the conditions as described in the regulations may protest the BLM's Proposed RMP Amendment/Final EIS. A person who meets the conditions and files a protest must file the protest within 30 days of the date that the Environmental Protection Agency publishes its Notice of Availability in the Federal Register.

ADDRESSES: Copies of the Final EIS have been sent to Federal, State, and local governments, public libraries in the area affected by the proposed Project, and to interested parties that previously requested a copy. The Final EIS and supporting documents will be available electronically on the following BLM Web site: http://www.blm.gov/wy/st/en/info/NEPA/documents/hdd/transwest.html. Copies of the Final EIS are available for public inspection at the locations identified in the SUPPLEMENTARY INFORMATION section of this notice.

Protests on the BLM land use planning process must be in writing and mailed to one of the following addresses:

Regular mail: | Overnight delivery:
BLM Director, (210) Attention: Protest Coordinator, P.O. Box 71383, Washington, DC 20024-1383 | BLM Director (210), Attention: Protest Coordinator, 20 M Street SE., Room 2134LM, Washington, DC 20003.

FOR FURTHER INFORMATION CONTACT: Sharon Knowlton, Project Manager; Bureau of Land Management Wyoming State Office; P.O. Box 20678, Cheyenne, WY 82003; by telephone at 307-775-6124; or email to: blm_wy_transwest_WYMail@blm.gov. Persons who use a telecommunications device for the deaf may call the Federal Information Relay Service (FIRS) at (800) 877-8339 to contact the above individual during normal business hours. The FIRS is available 24 hours a day, 7 days a week, to leave a message or question with the above individual. You will receive a reply during normal business hours.

For information about Western's involvement, contact Steve Blazek, Western NEPA Document Manager: Telephone 720-962-7265; email: sblazek@wapa.gov; address: Western Area Power Administration, P.O. Box 281213, Lakewood, CO 80228-8213. For information about the Forest Service's involvement, contact Kenton Call, Forest Service Project Lead: Telephone 435-691-0768; email: ckcall@fs.fed.us. The Forest Service will provide a mailing address in its TransWest Project Final EIS NOA. For general information on the Department of Energy's NEPA review procedures or on the status of a NEPA review, contact Carol M. Borgstrom, Director of NEPA Policy and Compliance, GC-54, U.S. Department of Energy, 1000 Independence Avenue SW., Washington, DC 20585; telephone 202-586-4600 or toll free at (800) 472-2756, or email: askNEPA@hq.doe.gov.

SUPPLEMENTARY INFORMATION: In November 2007, National Grid filed a ROW application with the BLM to construct and operate an EHV transmission line between Wyoming and delivery points in the Southwestern U.S. An amended application was filed on September 2, 2008, and project sponsorship was transferred to TransWest Express LLC (TransWest), a subsidiary of the Anschutz Corporation. TransWest submitted additional amended applications to the BLM in late 2008, 2010, 2011, 2012 and 2014 to reflect minor changes and refinements in the proposed Project.

In April 2010, the BLM and Western entered into a Memorandum of Understanding (MOU) in which the BLM and Western agreed to act as joint lead agencies for the EIS. The BLM's status as a joint lead agency is based on its potential Federal action to grant a ROW across BLM lands. Western's status as a joint lead agency is based on its potential Federal action to provide Federal funds for the proposed Project. Western and TransWest entered into a development agreement (executed in September 2011, amended in June 2014) wherein Western agreed to support Project development by providing technical assistance and/or financing.

The Forest Service is a cooperating agency in the proposed Project based on its potential Federal action to issue a special use permit across Forest Service lands. Additional cooperating agencies include Federal, State, tribal and local agencies. On January 4, 2011, the BLM and Western jointly published in the Federal Register (76 FR 379) a Notice of Intent to Prepare an EIS in compliance with Federal requirements FLPMA and NEPA. To allow the public an opportunity to review information associated with the proposed Project, the BLM held public meetings from January through March 2011 in Rawlins, Rock Springs, and Baggs, Wyoming; Craig, Rangely, and Grand Junction, Colorado; Castledale, Duchesne, Nephi, Delta, Richfield, Milford, Moab, Cedar City, St. George, Pine Valley, Central, and Enterprise, Utah; and Caliente, Overton, Henderson, and Las Vegas, Nevada. Issues and potential impacts to specific resources were identified during scoping and preparation of the Draft EIS. The following issues were identified in the scoping process:

• Selection of corridor alternatives;

• Potential private and public land use conflicts;

• Impacts and mitigation to fish, wildlife, vegetation, special status species and habitat;

• Public health and safety;

• Impacts to areas with Special Management designations;

• Cumulative impacts;

• Socioeconomic impacts; and

• Noxious weed control and reclamation.

The BLM and Western, in coordination with the Forest Service, other Federal, State, and local governments and agencies, considered all public scoping comments received as well as TransWest's refinements to identify the Agency Preferred Alternative. The Agency Preferred Alternative was developed through a comparative evaluation of routing opportunities and constraints and the relative potential impacts among the various alternative segments. The various alternative segments within regions were compared with each other in accordance with standard criteria. The primary criteria considered to select the Agency Preferred Alternative were:

(1) Maximize the use of designated utility corridors;

(2) Minimize requirements to amend agency land use plans;

(3) Avoid and minimize resource impacts regulated by law (for example, the Endangered Species Act);

(4) Avoid and minimize proximity to private residences and residential areas;

(5) Avoid and minimize resource impacts to reduce the magnitude and duration of adverse (residual) impacts;

(6) Minimize the use of private lands; and,

(7) Minimize transmission system construction, operation and maintenance expense.

The Environmental Protection Agency published a Draft EIS/Draft RMP Amendments NOA on July 3, 2013 in the Federal Register (78 FR 40163), which began a 90-day public comment period. To allow the public an opportunity to review and comment on the Draft EIS, the agencies held public meetings in July, August, and September 2013 in Rawlins and Baggs, Wyoming; Craig, Colorado; Vernal, Fort Duchesne, Duchesne, Price, Nephi, Delta, Cedar City, and St. George, Utah; Panaca and Henderson, Nevada. On December 6, 2013, the Forest Service published an additional NOA in the Federal Register (78 FR 73524) to initiate an additional 30-day public comment period specific to Forest Service decisions on the proposed Project. The agencies received over 1,800 comments, contained in 457 submissions, during the Draft EIS public comment periods. Principle comment issues included:

• Mitigation;

• Opposition to, or support for, specific routes;

• Effects to historic properties; and

• Effects to sensitive biological resources, including sage grouse.

Other comments provided specific edits and corrections to EIS sections and general support or opposition to the proposed Project. All submitted comments were addressed in the Final EIS. In response to public comments on the Draft EIS, the agencies developed a suite of hierarchical mitigation strategies for application to onsite, regional and compensatory mitigation, as applicable, as well as landscape level conservation and management actions to reduce resource impacts and achieve planning resource objectives for the planning areas crossed by the project. Specific examples include offsite compensatory mitigation for impacts to greater sage grouse and National Historic Trails. TransWest project proposal refinements include:

• Reduced separation distance from existing transmission to reflect updated Western Electricity Coordinating Council guidance;

• Removed or adjusted portions of the proposed Project that presented conflicts and/or did not address resource impacts not already addressed by the existing range of alternatives; and

• Reduced the width of the study area and refined the transmission alignment to reflect preliminary engineering designed to reduce resource impacts and conflicts.

As a result of cooperating agency input and public comments, refinements were made to the Agency Preferred Alternative presented in the Final EIS. The following discussions of proposed Project segments across various land ownerships and jurisdictions are specific to the Agency Preferred Alternative.

Approximately 276 miles (38 percent) of the Agency Preferred Alternative is located within designated Federal utility corridors. The Agency Preferred Alternative is co-located with existing transmission lines for a distance of 408 miles (56 percent) of the total length.

In Wyoming, the Agency Preferred Alternative crosses 59 miles of Federal, 4 miles of State, and 30 miles of private land. In Colorado, the Agency Preferred Alternative crosses 62 miles of Federal, 12 miles of State, and 15 miles of private land. In Utah, the Agency Preferred Alternative crosses 210 miles of Federal, 27 miles of State, and 153 miles of private land. In Nevada, the Agency Preferred Alternative crosses 137 miles of Federal, 14 miles of tribal, and 5 miles of private land. Lengths of the Agency Preferred Alternative by agency jurisdiction are found in the Final EIS, Chapter 2 Tables 2-23 through 2-26.

Other proposed Project alternatives cross additional Federal land jurisdictions that include: Colorado—BLM Grand Junction Field Office, and National Park Service; Utah—BLM Moab, Richfield, Price, and St. George Field Offices and National Forest System land with the Fishlake, Ashley, and Dixie National Forests; Nevada—National Park Service and the Department of Energy. These alternatives also cross State and private lands in addition to the Federal lands.

The requested ROW width would generally be 250 feet. The alternative segments were subdivided into four geographic regions to provide a better understanding of context for the impacts resulting from the proposed Project (Southern Wyoming and Northwestern Colorado; Northwestern Colorado, Eastern and Central Utah; Central and Southwestern Utah, Southern Nevada; Southern Nevada-Las Vegas metropolitan area). The approximately 728-mile Agency Preferred Alternative is discussed below, by region.

Region I (Southern Wyoming, Northwestern Colorado). The Agency Preferred Alternative transmission line route would extend approximately 157 miles from the vicinity of Sinclair, Carbon County, Wyoming to the vicinity of U.S. Highway 40 southwest of Maybell in western Moffat County, Colorado.

Region II (Northwestern Colorado, Eastern Utah, Central Utah). The Agency Preferred Alternative transmission line route would extend approximately 252 miles from Maybell Colorado, through eastern Utah, to the vicinity of the IPP near Delta, Millard County, Utah.

Region III (Central Utah, Southwest Utah, Southern Nevada). The Agency Preferred Alternative transmission line route would extend approximately 282 miles from the vicinity of the IPP, Millard County, Utah to the vicinity of Apex on Interstate 15, northeast of Las Vegas, Nevada.

Region IV (Southern Nevada—Apex to the Marketplace Hub). The Agency Preferred Alternative transmission line route would extend approximately 37 miles from Apex on Interstate 15 to the Marketplace Hub in the Eldorado Valley, southeast of Las Vegas.

The BLM, Western, and cooperating agencies worked together to develop routes that would conform to existing Federal land use plans. However, this objective was not reached for a number of the alternative routes analyzed in the Final EIS. Plan amendments that would be necessary to implement each of the evaluated alternatives were identified by affected agencies and analyzed in Chapter 4 of the Final EIS. The specific land use plan amendments that are actually needed will depend upon which route is selected in the agencies' final decisions. In the Final EIS, the BLM and Western identify the Agency Preferred Alternative, and BLM and Forest Service identify the requisite proposed plan amendments necessary to implement that alternative.

The proposed BLM plan amendments would: (1) Expand or extend an existing utility corridor that allows for overhead utilities; (2) Create a new utility corridor to allow for overhead utilities and exceptions to other resource stipulations if avoidance measures or impact mitigation are not feasible within the designated corridor; or (3) Create a one-time exception through a ROW exclusion area. Other BLM management plans could be amended depending upon the specifics of the route that is selected in the Record of Decision.

Copies of the Final EIS are available for public inspection during normal business hours at the following locations:

• BLM, Wyoming State Office, Public Reading Room, 5353 Yellowstone Road, Cheyenne, Wyoming 82009;

• BLM, Rawlins Field Office, 1300 North Third Street, Rawlins, Wyoming 82301;

• BLM, Colorado State Office, Public Reading Room, 2850 Youngfield Street, Lakewood, Colorado 80215-7093;

• BLM, Little Snake Field Office, 455 Emerson Street, Craig, Colorado 81625;

• BLM, White River Field Office, 220 East Market Street, Meeker, Colorado 81641;

• BLM, Grand Junction Office, 2815 H Road, Grand Junction, Colorado 81506;

• BLM, Utah State Office, Public Reading Room, 440 West 200 South, Suite 500, Salt Lake City, Utah 84101-1345;

• BLM, Cedar City Field Office, 176 East DL Sargent Drive, Cedar City, Utah 84721;

• BLM, Fillmore Field Office, 95 East 500 North, Fillmore, Utah 84631;

• BLM, Moab Field Office, 92 East Dogwood, Moab, Utah 84532;

• BLM, Price Field Office, 125 South 600 West, Price, Utah 84501;

• BLM, Richfield Field Office, 150 East 900 North, Richfield, Utah 84701;

• BLM, St. George Field Office, 345 East Riverside Drive, St. George, Utah 84790;

• BLM, Vernal Field Office, 170 South 500 East, Vernal, Utah 84078;

• BLM, Nevada State Office, Public Reading Room, 1340 Financial Blvd., Reno, Nevada 89502;

• BLM, Caliente Field Office, U.S. Highway 93, Building #1, Caliente, Nevada 89008;

• BLM, Las Vegas Field Office, 4701 North Torrey Pines Drive, Las Vegas, Nevada 89130; and

• Forest Service (Lead Forest Office) Dixie National Forest, 1789 North Wedgewood Lane, Cedar City, Utah 84721.

A limited number of paper copies of the document will be available as supplies last. To request a copy, contact Sharon Knowlton, Project Manager, BLM Wyoming State Office, P.O. Box 20678, Cheyenne, WY 82003.

BLM Land Use Plan Amendments and the Protest Process: Depending on the route alternative, potential plan amendments proposed by the BLM are needed for the portions of the proposed Project crossing BLM-administered lands that do not conform to the respective land use plan. These include the following:

• Region I. Two plan amendments would be required. The BLM Rawlins and Little Snake Field Office plans would be affected.

• Region II. One to four plan amendments would be required. The BLM White River, Vernal, Price, and Salt Lake Field Office plans would be affected.

• Region III. One plan amendment would be required. The BLM Caliente Field Office plan would be affected.

• Region IV. No plan amendments would be required.

Instructions for filing a protest with the Director of the BLM regarding the proposed BLM land use plan amendments may be found in the “Dear Reader” Letter of the Final EIS and at 43 CFR 1610.5-2. All protests must be in writing and mailed to the appropriate address, as set forth in the “ADDRESSES” section above. Emailed protests will not be accepted as valid protests unless the protesting party also provides the original letter by either regular mail or overnight delivery postmarked by the close of the protest period. Under these conditions, the BLM will consider the email as an advance copy and it will receive full consideration. If you wish to provide the BLM with such advance notification, please direct emails to protest@blm.gov.

Forest Service Land Use Plan Amendments: The following land use plan amendments are proposed by the Forest Service for the portions of the proposed Project crossing National Forest Lands to conform to the respective Forest Service Plans:

• Region II. The Uinta, Ashley, Manti-LaSal, Fishlake, and Dixie National Forest plans would be affected by one or more of the alternatives.

Project-specific amendments for the Uinta and Manti La-Sal National Forest Plans are identified for the Agency Preferred Alternative.

Agency Decisions on the proposed Project: Based on the environmental analysis in this Final EIS, the BLM Wyoming State Director will decide whether to authorize, authorize with modifications, or deny the application based on the proposed Project, Agency Preferred Alternative, alternatives, or any combination thereof on Public Lands. Based on the BLM decision, the Administrator for Western will decide whether it would use its borrowing authority to partially finance and hold partial ownership with TransWest in the resulting transmission facilities and capacity. The Forest Service will issue a separate ROD specific to its decision whether to authorize a Special Use Permit on National Forest System land.

Before including your phone number, email address, or other personal identifying information in your protest, you should be aware that your entire protest—including your personal identifying information—may be made publicly available at any time. While you can ask us in your protest to withhold your personal identifying information from public review, we cannot guarantee that we will be able to do so.

Mark A. Gabriel,
Administrator, Western Area Power Administration.
Mary Jo Rugwell,
Acting BLM Wyoming State Director.

[FR Doc. 2015-10248 Filed 4-30-15; 4:15 pm]

BILLING CODE 4310-22-P